Proclamation 7863 of January 14, 2005

National Sanctity of Human Life Day, 2005

By the President of the United States of America

A Proclamation

The Declaration of Independence proclaimed that all Americans are endowed by the Creator with the unalienable rights to life, liberty, and the pursuit of happiness. On National Sanctity of Human Life Day, we celebrate the sacred gift of life.

We have a responsibility in America to defend the life of the innocent and the powerless. Our Nation has made significant progress in recent years toward building a culture of life. Last year, I signed into law the Unborn Victims of Violence Act of 2004, which provides that any person who causes death or injury to a pregnant woman commits two separate offenses. I worked with members of both parties to ban the brutal practice of partial-birth abortion, and I signed the Born-Alive Infants Protection Act. Working with the Congress, my Administration has halted spending of taxpayers' money on international programs that promote abortions overseas. We continue to promote abstinence education, adoption programs, crisis pregnancy programs, and other efforts to help protect life.

My Administration remains committed to the steadfast belief in the dignity of every human being and the promise of every life. Across our country, we must continue to encourage our citizens to make ours a more just and welcoming society in which every child is born into a loving family and protected by law. We will work with decency and respect to change hearts and minds, one person at a time. In doing so, we will build a lasting culture of life and a more compassionate society.

NOW, THEREFORE, I, GEORGE W. BUSH, President of the United States of America, by virtue of the authority vested in me by the Constitution and laws of the United States, do hereby proclaim Sunday, January 16, 2005, as National Sanctity of Human Life Day. I call upon all Americans to recognize this day with appropriate ceremonies in our homes and places of worship and to reaffirm our commitment to respecting the life and dignity of every human being.

IN WITNESS WHEREOF, I have hereunto set my hand this fourteenth day of January, in the year of our Lord two thousand five, and of the Independence of the United States of America the two hundred and twenty-ninth.

B

[FR Doc. 05-1255

Filed 1-19-05; 9:29 am]

Billing code 3195-01-P